DEPARTMENT OF HOMELAND SECURITY

[Docket No. DHS-2010-0080]

Critical Infrastructure Partnership Advisory Council (CIPAC)

AGENCY: National Protection and Programs Directorate, DHS.

ACTION: Notice of CIPAC meeting.

SUMMARY: The CIPAC will meet on October 13, 2010 in Bethesda, MD. The meeting will be open to the public.

DATES: The CIPAC will meet Wednesday, October 13, 2010 from 8:30 a.m. to 12:30 p.m. Please note that the meeting may adjourn early if the committee has completed its business. For additional information, please consult the CIPAC Web site, http://www.dhs.gov/cipac, or contact the CIPAC Secretariat by phone at 703-235-3999 or by e-mail at cipac@dhs.gov.

FOR FURTHER INFORMATION CONTACT: Renee Murphy, Section Chief Partnership Programs, Partnership and Outreach Division, Office of Infrastructure Protection, National Protection and Programs Directorate, United States Department of Homeland Security, Mail Stop 0607, 245 Murray Lane, SW., Washington, DC 20528-0607, telephone 703-235-3999 or via e-mail at CIPAC@dhs.gov.

Responsible DHS Official: Renee Murphy, Section Chief Partnership Programs, Partnership and Outreach Division, Office of Infrastructure Protection, National Protection and Programs Directorate, United States Department of Homeland Security, Mail Stop 0607, SW., 245 Murray Lane, SW., Washington, DC 20528-0607, telephone 703-235-3999 or e-mail at CIPAC@dhs.gov.

SUPPLEMENTARY INFORMATION: CIPAC represents a partnership between the Federal Government and critical infrastructure owners and operators and provides a forum in which they can engage in a broad spectrum of activities to support and coordinate critical infrastructure protection.

The CIPAC will meet to discuss issues relevant to the protection of critical infrastructure. The October 13, 2010 meeting will include panel discussions between participating Sectors regarding Regionalization and Resilience and Information Sharing.

Procedural: While this meeting is open to the public, participation in the CIPAC deliberations is limited to committee members, DHS officials, and persons invited to attend the meeting for special presentations.

Information on Services for Individuals with Disabilities: For information on facilities or services for individuals with disabilities or to request special assistance at the meeting, contact the CIPAC Secretariat at 703-235-3999 as soon as possible.

Signed: September 24, 2010.
Renee Murphy,
Alternate Designated Federal Officer for the CIPAC.

[FR Doc. 2010-24670 Filed 9-30-10; 8:45 am]

BILLING CODE 9110-9P-P